FEDERAL COMMUNICATIONS COMMISSION

[Report No. 2452]

Petitions for Reconsideration of Action in Rulemaking Proceeding

November 29, 2000.

Petitions for Reconsideration have been filed in the Commission's rulemaking proceeding listed in this Public Notice and published pursuant to 47 CFR Section 1.429(e). The full text of this document is available for viewing and copying in Room CY-A257, 445 12th Street, SW., Washington, DC or may be purchased from the Commission's copy contractor, ITS, Inc. (202) 857-3800. Oppositions to these petitions must be filed by December 22, 2000. See Section 1.4(b)(1) of the Commission's rules (47 CFR 1.4(b)(1)). Replies to an opposition must be filed within 10 days after the time for filing oppositions have expired.

Subject: Amendment of 73.202(b) Table of Allotments FM Broadcast Stations (Windthorst, Texas).

Number of Petitions Filed: 2.

Federal Communications Commission.

Magalie Roman Salas,
Secretary.

[FR Doc. 00-31174 Filed 12-6-00; 8:45 am]

BILLING CODE 6712-01-M